DEPARTMENT OF TRANSPORTATION

Federal Highway Administration

AMBER Plan Implementation Assistance Program; Request for Applications

AGENCY: Federal Highway Administration (FHWA), DOT.

ACTION: Notice; request for applications.

SUMMARY: This document requests applications for assistance from public agencies to implement State and local departments of transportation aspects of AMBER Plan Programs in each State. The FHWA AMBER Plan Implementation Assistance Program will provide grants to States (including Puerto Rico and the District of Columbia) to implement plans and programs that have been developed to include State and local transportation agencies and their resources into AMBER Plan Programs. The intent is to provide funds to States for the purpose of implementing systems and procedures that have been identified as necessary to incorporate various traveler information systems such as changeable message signs (CMS) in the issuance of child abduction or AMBER Alerts.

DATES: Applications for AMBER Plan Implementation Assistance must be received prior to July 16, 2004, to receive funding in fiscal year 2004. Applications for AMBER Plan Implementation Assistance must be received prior to July 15, 2005, to receive funding in fiscal year 2005. Decisions regarding the acceptance of specific applications for funding will be made within 30 business days of receipt.

ADDRESSES: Applications for AMBER Plan Implementation Assistance should be submitted electronically via e-mail to Amberplan@fhwa.dot.gov, or mailed directly to the Federal Highway Administration, Office of Transportation Management—AMBER Plan Implementation (HOTM-1), 400 Seventh St., SW., Room 3401, Washington, DC 20590-0001.

FOR FURTHER INFORMATION CONTACT: Mr. Robert Rupert, Office of Transportation Management (HOTM-1), (202) 366-2194; or Ms. Gloria Hardiman-Tobin, Office of Chief Counsel (HCC-40), (202) 366-0780; Department of Transportation, Federal Highway Administration, 400 Seventh Street, SW., Washington, DC 20590-0001. Office hours are from 8 a.m. to 4:30 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.archives.gov/federal_register and the Government Printing Office's Web page at http://www.gpoaccess.gov/nara.

The document may also be viewed at the FHWA's Operations home page at http://www.ops.fhwa.dot.gov.

Background

The AMBER Plan Program is a voluntary program where law enforcement agencies partner with broadcasters to issue an urgent bulletin in the most serious child abduction cases. These bulletins notify the public about abductions of children. The FHWA recognizes the value of the AMBER Plan Program and fully supports the State and local governments' choice to implement this program.

Alerts of serious child abductions may be communicated through various means including radio and television stations, highway advisory radio, changeable message signs (CMS), and other media. Under certain circumstances, using CMS to display child abduction messages as part of an AMBER Plan Program has been determined to be consistent with FHWA policy governing the use of CMS and the type of messages that are displayed. The FHWA issued a policy memorandum in August 2002 that supports the use of CMS for AMBER Alerts. This memorandum may be viewed at the following url: http://www.fhwa.dot.gov/legsregs/directives/policy/AMBERmemo.htm.

On February 12, 2003, the FHWA published a notice in the Federal Register at 68 FR 7164, requesting applications from States for AMBER Plan Program Assistance. These grants of up to $125,000 were to facilitate the inclusion of State and local transportation agencies into existing or proposed AMBER Plan Programs. Of specific interest to the FHWA were the development of policies and procedures to provide specific guidance on displaying AMBER Alert or child abduction messages on CMS and the improvement of communication systems and protocols between public safety and transportation agencies. The notice expressly prohibited the procurement of roadside or in-vehicle devices with AMBER Plan Program Assistance funding. As of June 1, 2004, 37 States and the District of Columbia have received funding for AMBER Plan Program Assistance. The remaining 13 States and Puerto Rico have until July 16, 2004 to apply for AMBER Plan Program Assistance grants.

The Prosecutorial Remedies and Other Tools to End the Exploitation of Children Today (PROTECT) Act of 2003 (Pub. L. 108-21, 117 Stat. 650) incorporated the AMBER Plan Program Assistance into section 303(b). Section 303(c) of the PROTECT Act of 2003 provides for implementation grants and is the basis for this AMBER Plan Implementation Assistance Program.

Objectives of the AMBER Plan Implementation Assistance Program

The FHWA AMBER Plan Implementation Assistance Program will provide up to $20 million in total grants to States (including Puerto Rico and the District of Columbia) to implement enhancements of notification or communications systems along highways for alerts and other information for the recovery of abducted children. The intent is to improve the overall capability of communicating child abduction, AMBER Alerts and other important information to motorists using CMS or other traveler information systems.

Each State (including Puerto Rico and the District of Columbia) may apply for a grant of up to $400,000 to be used in implementing its plan or program developed for the use of CMS or other motorist information systems to notify motorists about abductions of children. A State shall be eligible for an AMBER Plan Implementation Assistance Program grant if the Secretary of Transportation, or his delegated official, determines that the State has developed a State program in accordance with section 303(b) of the PROTECT Act of 2003.

Funding

The instrument to provide funding, on a cost reimbursable basis, will be a Federal-aid project agreement. Federal funding authority is derived from section 303(h) of the PROTECT Act of 2003. Actual award of funds will be subject to funding availability.

Federal funding for AMBER Plan Implementation Assistance may be used as necessary to implement local plans and programs developed in accordance with section 303(b) of the PROTECT Act of 2003. Eligible activities may include, but are not limited to: acquisition and installation of CMS and other roadside motorist information equipment; communications and power for roadside devices; systems necessary to provide for wide area alerts to motorists; enhanced communications between public safety, law enforcement and transportation agencies to improve notifications of child abductions or provide for 24-hour operation of motorist alert systems; and other services or systems to support the timely notification to motorists about abductions of children.

Matching Share/Cost Sharing

Section 303(d) of the PROTECT Act of 2003 mandates that the Federal share of the cost of activities supported by an AMBER Plan Assistance Program grant may not exceed 80 percent. The remaining minimum twenty percent matching share must be from non-federally derived funding sources, and must consist of either cash, substantial equipment contributions that are wholly utilized as an integral part of the project, or personnel services dedicated full-time to the project for a substantial period, as long as such personnel are not otherwise supported with Federal funds.¹ The non-federally derived funding may come from State, local government, or private sector partners. However, funding identified to support continued operations, maintenance, and management of the system will not be considered as part of the partnership's cost-share contribution.

¹ See Consolidated Appropriations Act, 2004, Pub. L. 108-99, 118 Stat. 3, 289.

Grantees shall maintain financial records that detail the activities provided by Federal funding, indicating appropriate total matching requirements, as described under the heading, Matching Share/Cost Sharing. The FHWA and the Comptroller General of the United States have the right to access all documents pertaining to the use of Federal funds and non-Federal contributions. Grantees and sub-grantees are responsible for obtaining audits in accordance with the Single Audit Act Amendments of 1996 (31 U.S.C. 7501-7507) and revised Office of Management and Budget (OMB) Circular A-133, Audits of States, Local Governments, and Non-Profit Organizations, dated June 30, 1997, as revised, that is available at the following url: http://www.whitehouse.gov/omb/circulars/a133/a133.html. The audits shall be conducted by an independent auditor in accordance with generally accepted government auditing standards covering financial audits found at 49 CFR 18.26.

Instructions to Applicants

An application for AMBER Plan Implementation Assistance Program shall consist of two parts: (1) a proposed technical approach; and (2) a financial plan. Together these two elements must describe the proposed activities to be conducted with this funding. The complete application, excluding appendices, shall not exceed 15 pages in length, including the Technical Approach, the Financial Plan, the title page, index, tables and any appendices. A page is defined as one side of an 8½ by 11-inch paper, with a type font no smaller than 12 point.

Applications shall be submitted in an electronic format compatible with Microsoft Office 2000. The cover sheet or title page of the application shall include the name, address, phone number, and e-mail address of an individual to whom correspondence and questions about the application may be directed. Any portion of the application or its contents that may contain proprietary information shall be clearly indicated; otherwise, the application and its contents shall be non-proprietary.

Application Content

Applicants must submit an acceptable Technical Approach and Financial Plan that together provide sound evidence that the objectives of this program can successfully be completed in a timely fashion.

Applications should be organized into the following two sections:

1. Technical Approach

The application should briefly summarize the plan that was developed for the use of CMS or other motorist information systems to notify motorists about abductions of children, and identify the activities that are to be funded with this grant. The plan should be included as an appendix to the application. The following paragraphs illustrate the general information that applicants should include in this section of the application.

(A) The application should identify the specific activities to be funded by the grant and their relation to the plan that was developed for the use of CMS or other motorist information systems to notify motorists about abductions of children, in accordance with section 303(b) of the PROTECT Act of 2003.

(B) The application should include a schedule or timeline for completion of the proposed activities for which the grant will be used. The schedule should include milestone events or targeted activities, especially indicating any activities that require FHWA actions or actions by organizations typically not influenced by the applying agency.

2. Financial Plan

The Financial Plan should demonstrate that sufficient funding is available to successfully complete all aspects of the proposed implementation as identified in the plan described in section 1. Additionally, the Financial Plan shall provide the financial information described under the heading, Matching Share/Cost Sharing.

An acceptable Financial Plan should:

(A) Provide a clear identification of the proposed funding to implement the plan that was developed for the use of changeable message signs or other motorist information systems to notify motorists about abductions of children. The Financial Plan shall include a commitment that no more than 80 percent of the total cost will be supported by Federal funds. Financial commitments from other public agencies and from private firms should be documented appropriately, for example, through memorandums of understanding.

(B) Describe how the proposed activities to be funded will be conducted to ensure their timely implementation and the continued long-term operation.

(C) As appropriate, include corresponding public and/or private investments that minimize the relative percentage and amount of Federal funds. Also include evidence of continuing fiscal capacity and commitment from anticipated public and private sources.

Authority: Sec. 303, Pub. L. 108-21, 117 Stat. 650, 662-663, 42 U.S.C. 5791b; 23 U.S.C. 315.

Issued on: June 7, 2004.
J. Richard Capka,
Deputy Administrator, Federal Highway Administration.

[FR Doc. 04-13391 Filed 6-14-04; 8:45 am]

BILLING CODE 4910-22-P